OFFICE OF MANAGEMENT AND BUDGET

Office of Federal Financial Management; Proposed Policy on Common Summary Report of Inventions

AGENCY: Office of Management and Budget (OMB).

ACTION: Notice of proposed policy issuance directive on standard data elements for a common summary report of inventions.

SUMMARY: OMB's Office of Federal Financial Management (OFFM) proposes to issue a policy directive to establish standard data elements and an interactive Internet web form of these elements to facilitate the submittal of a summary report of inventions. The purpose of a single interactive Internet web form is to have a common government-wide system for this report instead of the numerous, agency-unique summary invention reporting forms currently used by the Federal agencies. An interagency work group developed the data elements as part of the implementation of the Federal Financial Assistance Management Improvement Act of 1999 (Pub. L. 106-107). Consistent with the purposes of that Act, a single common web form will simplify and streamline this reporting process.

DATES: All comments on this proposal should be in writing, and must be received by December 30, 2002.

ADDRESSES: Due to potential delays in OMB's receipt and processing of mail sent through the U. S. Postal Service, we encourage respondents to submit comments electronically to ensure timely receipt. We cannot guarantee that comments mailed will be received before the comment closing date.

Electronic mail comments may be submitted to ghatch@omb.eop.gov. Please include “Invention Reporting Comments” in the subject line of the message. If including the comments as an attachment to the e-mail, identify the attachment with “Invention Reporting Comments.” Please include your name, title, organization, postal address, telephone number, and e-mail address in the text of the message. Comments may also be submitted via facsimile to (202) 395-4915. Comments may be mailed to Garrett Hatch, Office of Federal Financial Management, Office of Management and Budget, Room 6025, New Executive Office Building, Washington, DC 20503.

FOR FURTHER INFORMATION CONTACT: Garrett Hatch, Office of Federal Financial Management, Office of Management and Budget, at 202-395-0786 (direct) or 202-395-3993 (main office) and e-mail: ghatch@omb.eop.gov.

SUPPLEMENTARY INFORMATION: This notice proposes, by way of a policy directive, to establish a single interactive Internet web form to submit the summary (interim or final) report of inventions conceived or first actually reduced to practice during the term of an award as required by the Bayh-Dole Act [35 U.S.C. Section 206; 37 CFR Section 401.5(f)(1) and (3)]. The Federal agencies plan to locate this interactive web form on the Interagency Edison extramural invention reporting system called iEdison (http://iedison.gov). iEdison is an Internet-based system devoted to Bayh-Dole Act reporting compliance. It was selected because it is currently used by 16 Federal agencies for invention reporting and tracking. To meet reporting requirements, award recipients will be able to complete the web form on the iEdison web site, print a copy, sign, and fax or mail the form to the awarding agency. The use of an electronic signature is not included in this implementation since a government-wide standard for electronic signature has not yet been defined.

Implementation of a common government-wide web form for the summary report of inventions is one outcome of the Federal agencies' streamlining and simplification efforts mandated by the Federal Financial Assistance Management Improvement Act of 1999 (Pub. L. 106-107). Although the standard data elements and web form were developed for financial assistance recipients, the elements are equally applicable to contractors, and contractors can use the web form as an interim or final summary report of inventions, if an agency chooses.

The standard data elements, i.e., data dictionary, and a template of the proposed web form are attached to this notice. The Federal agencies that require a summary invention report believe the proposed data elements are the essential elements needed for such a report. During an informal commenting period, several organizations recommended that a summary report of inventions be required only if there were inventions to report.

However, while the decision to request such reports is optional, most agencies believe that a final report (either positive or negative) is the most efficient way to provide some assurance that the recipient has given appropriate attention to the reporting of inventions. Often times a significant number of inventions are reported when recipients are prompted to complete a final report of inventions prior to close-out. The experience of several agencies has also shown that recipients pay more attention to invention reporting obligations if they are required to indicate if no inventions were made under the award.

We welcome your comments on the standard data elements and the proposed interactive Internet web form. If you receive funds from the Federal Government for research and development, or expect to receive funds in the future, questions that you may wish to address include:

• Do you agree that these data elements represent the minimum set needed? Would you add or delete any elements? If you recommend adding or deleting any elements, please explain.

• Do the data element definitions clearly describe what is required? If not, please provide suggested changes.

• Would you be able to access the iEdison system to complete the web form? Although the interactive Internet web form will not be fully developed until the standard data elements are approved, we welcome suggestions on how to make it more “user friendly”.

Dated: October 17, 2002.
Joseph L. Kull,
Deputy Controller.

Proposed OMB Policy Directive

To the Heads of Executive Departments and Establishments

Subject: Standards for Summary Report of Inventions.

(1) Purpose. This policy directive establishes a single interactive Internet web form to be used by recipients for their summary report of inventions if such reports are required by the awarding agency.

(2) Authority. This policy directive is part of the implementation of the Federal Financial Assistance Management Improvement Act of 1999 (Pub. L. 106-107).

(3) Background. The Federal Financial Assistance Management Improvement Act of 1999 requires the Office of Management and Budget (OMB) to direct, coordinate, and assist Executive Branch departments and agencies in establishing an interagency process to streamline and simplify Federal financial assistance procedures for non-Federal entities.

It also required each executive agency to develop, submit to the Congress, and implement a plan for the streamlining and simplification effort. Twenty-six Executive Branch agencies jointly submitted a plan to the Congress in May 2001, as the Act required. The plan described the interagency process through which the agencies would review current policies and practices and seek to streamline and simplify them. The plan also identified substantive areas in which the interagency work groups had begun their review and simplification efforts.

One area identified by the Post-Award Work Group was the development of common data elements for a summary report of inventions. The interagency work group recognized that the development of a common set of information requirements, and adoption of a common web form for this report would reduce the reporting burden on recipients that receive Federal funds for research and development.

(4) Requirement. The Bayh-Dole Act requires that any invention conceived or first actually reduced to practice using funds obtained as part of a Federal funding agreement must be reported to the Federal awarding agency [35 U.S.C. Section 202; 37 CFR Section 401.14]. A provision of the law permits agencies, at their option, to require recipients to submit a summary report of inventions, either on an interim basis, or prior to the close-out of a funding agreement listing all subject inventions or stating that there were none [37 CFR Section 401.5(f)(1) & (f)(3)]. Most of the large Federal agencies that fund research and development require at least a final summary report of inventions.

(5) Policy. If a Federal agency requires a summary report of inventions prior to the close-out of a grant or a cooperative agreement, the agency must use the common web form and must specify in the award agreement or in the agency's policy directives that recipients must use the common interactive Internet web form on the iEdison Web site at http://iedison.gov for such reports.

(6) Responsibilities.

a. Agency Responsibilities. Executive Branch departments and agencies:

(1) Must issue any needed direction to offices that award grants and cooperative agreements to implement this policy. Agencies should also direct recipients to complete all the required information on the web form and any optional information required by the agency, print and sign the form, and mail or fax it to the appropriate Federal official.

(2) May request exceptions from this OFFM policy letter for any summary invention reporting that deviates from the government-wide invention reporting system.

b. OMB Responsibilities. OMB will update this policy letter as needed, based on recommendations from interagency work groups.

(7) Information Contact. Direct any questions regarding this policy directive to Garrett Hatch, OFFM, 202-395-0786 (direct) or 202-395-3993 (main office).

(8) Effective Date. The policy directive is effective 30 days after issuance. All implementing actions other than regulatory revisions must be completed by the Executive departments and agencies within 6 months of issuance; regulatory revisions must be completed within 12 months.

Date:

Controller

Attachments:

1. Data Dictionary for Common Summary Report of Inventions

2. Summary Report of Inventions Web Form Template

Data Dictionary—Common Summary Report of Inventions

The data elements that are represented allow for the summary reporting of all inventions and patents that have been made using Federal funds during the term of a Federal funding agreement. The data elements allow for the identification of the agency source of funding, the reporting period, and whether the report is an interim, i.e., for a funding period of fixed duration within a multi-year award, or a final report. Any number of inventions can be reported, including the invention title, inventors' names, and invention docketing numbers and the date upon which the invention was formally reported to the funding agency consistent with Bayh-Dole regulations. A similar set of information is available for summary reporting of patent applications that relate to each invention. Finally, the name, title, and signature of the grantee organization official authorized to submit the information is included. The signature of the official is not captured as part of the interactive form. Instead, once the form is completed and printed, the official can sign the printed form prior to either faxing or sending to the awarding agency via U.S. Postal Service, in accordance with the agency's implementing instructions.

Group | Description | Required?
Document | The Document group represents data elements relevant to the entire Summary Report of Inventions | Required.
Invention | The Invention group identifies the data elements relevant to one invention listed on this Summary Report of Inventions | Required. May list more than one.
Inventor | The Inventor group identifies the data elements relevant to one inventor for one invention listed on this Summary Report of Inventions | Required. May list more than one.
Patent | The Patent group identifies the data elements relevant to one patent listed on this Summary Report of Inventions | Optional. May list more than one.
Patent Inventor | The Patent Inventor group identifies the data elements relevant to one inventor for one entry patent listed on this Summary Report of Inventions | At least one required per Patent group. May list more than one.

Tag | Length | Description | Required? | Group
Report Type Code | 1 | Code specifying the type of report: I=Interim. F=Final. | Required. Identify one only | Document.
Report Period Start Date | 8 | Month, date, and year that the reporting period starts. Format is MMDDYYYY | Required | Document.
Report Period End Date | 8 | Month, date, and year that the reporting period ends. Format is MMDDYYYY | Required. Identify one only | Document.
Subject Inventions Number | 3 | Number of subject inventions conceived of or first actually reduced to practice during the entire award period. Valid values are 0-999 | Required. Identify one only | Document.
Subject Inventions Reported | 1 | Were all the subject inventions reported? Y=Yes. N=No. | Required. Identify one only | Document.
Prime Awardee Name | 100 | Name of the organization that has been awarded the grant, cooperative agreement, or contract | Required. Identify one only | Document.
Prime Award Number | 30 | Agency-specific number assigned to the grant, cooperative agreement, or contract award | Required. Identify one only | Document.
Awarding Agency | 100 | Agency that awarded the grant, cooperative agreement, or award | Required. Identify one only | Document.
Subcontractor Name | 100 | The name of the organization submitting this Summary Invention Report, if different from the Prime Awardee Name | Optional. Identify one only | Document.
Subcontractor DUNS | 15 | The DUNS number of the subcontractor submitting this Summary Invention Report | Required if Subcontractor Name is present. Identify one only | Document.
Subcontract Number | 30 | Contract number assigned to the subcontractor in the context of this grant, cooperative agreement, or contract | Required if Subcontractor Name is present. Identify one only | Document.
Signatory Prefix | 15 | Prefix of the organizational official authorized to submit this report | Optional. Identify one only | Document.
Signatory First Name | 30 | First name of the organizational official authorized to submit this report | Required. Identify one only | Document.
Signatory Middle Initial | 1 | Middle initial of the organizational official authorized to submit this report | Optional. Identify one only | Document.
Signatory Last Name | 30 | Last name of the organizational official authorized to submit this report | Required. Identify one only | Document.
Signatory Suffix | 5 | Suffix of the organizational official authorized to submit this report | Optional. Identify one only | Document.
Signatory Title | 240 | Position title of the organizational official authorized to submit this report | Required. Identify one only | Document.
Report Submission Date | 8 | Month, date, and year that this report is submitted to the Federal Government. Format is MMDDYYYY | Required. Identify one only | Document.
Invention Title | 300 | Title of the subject invention | Required. Identify one only | Invention.
Invention Docket Number | 25 | Number by which the grantee/contractor tracks the subject invention | Optional. Identify one only | Invention.
Invention Report Date | 8 | Month, date, and year that the subject invention is reported to the Federal Government. Format is MMDDYYYY | Optional. Identify one only | Invention.
Agency Invention Number | 25 | Number by which the Awarding Agency tracks the subject invention | Optional. Identify one only | Invention
Invention Reported By Code | 1 | Code specifying who reported the subject invention: A=Awardee. S=Subcontractor. | Optional. Identify one only | Invention.
Inventor First Name | 30 | First name of the inventor of the subject invention | Required. Identify one only | Inventor.
Inventor Middle Initial | 1 | Middle initial of the inventor of the subject invention | Optional. Identify one only | Inventor.
Inventor Last Name | 30 | Last name of the inventor of the subject invention | Required. Identify one only | Inventor.
Patent Title | 300 | Title of the subject patent | Required. Identify one only | Patent.
Patent ID Number | 25 | The patent number or patent application serial number | Required. Identify one only | Patent.
Patent Filing Or Issue Date | 8 | Month, date, and year that the patent application was filed or the patent was issued. Format is MMDDYYYY | Required. Identify one only | Patent.
Patent Docket Number | 25 | Number by which the grantee/contractor tracks the subject patent | Optional. Identify one only | Patent.
Patent Reported By Code | 1 | Code specifying who reported the subject patent: A=Awardee. S=Subcontractor. | Optional. Identify one only | Patent.
US Application Filed | 1 | Has a U.S. patent application been filed? Y=Yes N=No | Required. Identify one only | Patent.
Foreign Application Filed | 1 | Has a foreign patent application been filed? Y=Yes N=No | Required. Identify one only | Patent.
Foreign Countries Indicated | 1 | For foreign filings, have all countries been noted in the report? Y=Yes N=No | Required if Foreign Application Filed is Yes. Identify one only | Patent.
Patent Inventor First Name | 30 | First name of the inventor of the subject patent | Required. Identify one only | Patent Inventor.
Patent Inventor Middle Initial | 1 | Middle initial of the inventor of the subject patent | Optional. Identify one only | Patent Inventor.
Patent Inventor Last Name | 30 | Last name of the inventor of the subject patent | Required. Identify one only | Patent Inventor

BILLING CODE 3110-01-P

[FR Doc. 02-27543 Filed 10-29-02; 8:45 am]

BILLING CODE 3110-01-C